DEPARTMENT OF COMMERCE

National Oceanic and Atmospheric Administration

50 CFR Part 660

[Docket No. 001012284-0284-01; I.D. 092100B]

RIN 0648-AO50

Fisheries off West Coast States and in the Western Pacific; Western Pacific Pelagic Fisheries; American Samoa; Control Date

AGENCY: National Marine Fisheries Service (NMFS), National Oceanic and Atmospheric Administration (NOAA), Commerce.

ACTION: Advance notice of proposed rulemaking; request for comments.

SUMMARY: NMFS announces that persons who enter the pelagic longline fishery in the exclusive economic zone around American Samoa after July 15, 2000 (“control date”) are not guaranteed future participation in the fishery if the Western Pacific Fishery Management Council (Council) prepares and NMFS approves a program limiting entry or effort. This action does not commit the Council or NMFS to limit effort or to prevent any other date from being selected for eligibility to participate in the American Samoa pelagic fishery. The Council or NMFS also may use other criteria to limit fishing effort or participation in a limited entry program if one is developed in the future.

DATES: Comments must be submitted in writing by November 20, 2000.

ADDRESSES: Comments may be mailed to Dr. Charles Karnella, Administrator, NMFS, Pacific Islands Area Office (PIAO), 1601 Kapiolani Blvd., Suite 1110, Honolulu, HI 96814-4700; or faxed to 808-973-2941. Comments will not be accepted if submitted via e-mail or Internet.

FOR FURTHER INFORMATION CONTACT: Alvin Katekaru, Fishery Management Specialist, PIAO, 808-973-2937.

SUPPLEMENTARY INFORMATION: Since 1996, the pelagic fishery around American Samoa has undergone a change from essentially a troll fishery to a commercial, small-scale longline fishery. Currently, the pelagic longline fishery consists mostly of “alias” (small catamarans), about 30 ft (9.1 m) long and powered by gasoline outboard engines, that use monofilament longline gear to target albacore tuna. In 1996, 13 alias landed 232,721 lbs (105.56 mt) of albacore. At present about 25 alias are actively engaged in the fishery; however, 63 alias are registered with longline general permits. As for large fishing vessels, in 1997 the fishery consisted of four longliners ranging in length from 65 to 109 ft (19.8 to 33.2 m); today there are 15 large longline vessels in the American Samoa pelagic fishery.

In response to the influx of large longliners into American Samoa’s pelagic fishery and the potential for conflict between the large vessels and small alias, the Council established November 13, 1997, as a control date to further restrict the participation of large fishing vessels in the fishery, if the Council decided to limit entry or effort, by establishing area closures to large fishing vessels (63 FR 3532, January 23, 1998). At its meeting in June 2000, the Council voted to: (1) establish 50-nm fishing area closures around the islands of American Samoa to commercial fishing vessels larger than 50 ft (15.2 m) in length targeting pelagic management unit species, (2) allow vessels registered for use with a Federal general longline permit and a documented landing of pelagic management unit species, prior to the control date of November 13, 1997, to use longline gear within a 50-nm area closure around American Samoa, and (3) establish a new control date of July 15, 2000, for permit eligibility, which supersedes the control date of November 13, 1997, if the Council decides to develop a limited entry program for the American Samoa longline fishery.

The Council believes that there is a risk of speculative entry into the longline fishery while the Council further evaluates the potential benefits and costs of limited entry alternatives. The control date is designed to discourage speculative entry during this period of analysis. The control date does not commit the Council or NMFS to any particular management regime or criteria for entry into the American Samoa longline fishery. Fishermen are not guaranteed future participation in this fishery, regardless of their level of participation before or after the control date. The Council may choose a different control date or it may choose a management regime that does not involve a control date. Other criteria, such as documentation of commercial landings and sales, may be used to determine eligibility for participation in the fishery. The Council also may choose to take no further action to control entry or access to the fishery, in which case the control date may be rescinded.

Authority: 16 U.S.C. 1801 et seq.

Dated: October 13, 2000.
Penelope D. Dalton,
Assistant Administrator for Fisheries, National Marine Fisheries Service.

[FR Doc. 00-26936 Filed 10-18-00; 8:45 am]

BILLING CODE 3510-22-S